DEPARTMENT OF ENERGY

Secretary of Energy Advisory Board

AGENCY: Department of Energy.

ACTION: Notice of open meeting.

SUMMARY: This notice announces an open meeting of the Secretary of Energy Advisory Board (SEAB). The Federal Advisory Committee Act (Pub. L. 92-463, 86 Stat. 770) requires public notice of this meeting be announced in the Federal Register.

DATES: Tuesday, April 17, 2012, 9 a.m.-4 p.m.

ADDRESSES: Argonne National Laboratory, 9700 South Cass Avenue, Argonne, IL 60439.

FOR FURTHER INFORMATION CONTACT: Alyssa Morrissey, Deputy Designated Federal Officer, U.S. Department of Energy, 1000 Independence Avenue SW., Washington, DC 20585; telephone (202) 586-2926 or facsimile (202) 586-1441; email: seab@hq.doe.gov.

SUPPLEMENTARY INFORMATION:

Purpose of the Board: The Board was reestablished to provide advice and recommendations to the Secretary on the Department's basic and applied research, economic and national security policy, educational issues, operational issues and other activities as directed by the Secretary.

Purpose of the Meeting: This is one of the quarterly meetings of the Board. This meeting will provide briefings to the Board and an opportunity for the subcommittees to report on their progress.

Tentative Agenda: The meeting will start at 9 a.m. on April 17, 2012, and will serve as an update meeting for the Board. The tentative meeting agenda includes opening remarks from the Secretary, briefings from the Laboratory, reports on planned activities from subcommittees, and an opportunity for public comment. The meeting will conclude at 4 p.m.

Public Participation: The meeting is open to the public. Individuals who would like to attend must RSVP to Ms. Morrissey no later than 5 p.m. on Friday, April 13, 2012, by email at: seab@hq.doe.gov. Please provide your name, organization, citizenship, and contact information. Anyone attending the meeting will be required to present government issued identification. Those wishing to speak are required to register and may do so beginning at 9 a.m. on April 17, 2012. Individuals and representatives of organizations who would like to offer comments and suggestions may do so at the end of the meeting on Tuesday, April 17, 2012. Approximately 30 minutes will be reserved for public comments. Time allotted per speaker will depend on the number who wish to speak but will not exceed 5 minutes. Those not able to attend the meeting or have insufficient time to address the committee are invited to send a written statement to Alyssa Morrissey, U.S. Department of Energy, 1000 Independence Avenue SW, Washington, DC 20585, or email to seab@hq.doe.gov.

The Designated Federal Officer is empowered to conduct the meeting in a fashion that will facilitate the orderly conduct of business.

Minutes: The minutes of the meeting will be available on the SEAB Web site http://www.energy.gov/SEAB or by contacting Ms. Morrissey. She may be reached at the postal address or email address above.

Issued in Washington, DC, on March 22, 2012.
LaTanya R. Butler,
Acting Deputy Committee Management Officer.

[FR Doc. 2012-7307 Filed 3-26-12; 8:45 am]

BILLING CODE 6450-01-P